DEPARTMENT OF THE INTERIOR

Office of the Special Trustee for American Indians

Notice of Additional Tribal Consultation Meetings

AGENCY: Office of the Special Trustee for American Indians, Interior.

ACTION: Notice of Tribal Consultation Meetings.

SUMMARY: Notice is hereby given of additional Tribal Consultation Sessions to be held between the Department of the Interior, Office of the Special Trustee for American Indians (DOI/OST) and tribal governments interested in, or currently operating the real estate appraisal services program. The purpose of these consultation sessions is to discuss ideas in developing new tribal share allocation formulas (TSAFs) to be used to apportion funds to tribes that perform the appraisal program pursuant to Public Law 93-638 (The Indian Self-Determination and Education Assistance Act of 1975, as amended) [25 U.S.C. 450j-1(a)]. The original notice appeared in 74 FR 28521, June 16, 2009.

DATES: Two additional consultation sessions will be held on August 13, 2009. The morning session is scheduled from 9 a.m. to 12 p.m. The afternoon session will be presented from 1:30 p.m. to 4:30 p.m. Both sessions will have the same agenda.

ADDRESSES: The two sessions will be held at the Dimond Center Hotel, 700 E. Dimond Blvd., Anchorage, AK 88515.

FOR FURTHER INFORMATION CONTACT: Debbie Meisner, Director Administrative Operations, Office of Appraisal Services at (505) 816-1318 or Debbie_Meisner@ost.doi.gov. Detailed information on the project background, schedule and locations are posted on the DOI/OST Web site at http://www.ost.doi.gov.

SUPPLEMENTARY INFORMATION: The purpose of the consultation sessions is to discuss ideas in developing new tribal share allocation formulas that will be used to apportion funds for tribes performing, or interested in performing, the appraisal program pursuant to Public Law 93-638 contracts and compacts. These formulas will ensure uniformity and transparency in determining tribal shares and funding residual for the inherent federal functions.

A report of each consultation session will be prepared and made available within 90 days of the consultation to all tribal governments that currently compact or contract the appraisal program. Tribes wishing to submit written testimony for the consultation report should send it to Debbie Meisner, Director Administrative Operations, Office of Appraisal Services at Debbie_Meisner@ost.doi.gov, either prior to the consultation session or by September 18, 2009. Please note that only written testimony submitted to DOI/OST will be included in the report, as an appendix. Testimony and comments made orally will be summarized in the report without attribution, along with topics of concern and recommendations.

Dated: July 14, 2009.
Donna Erwin,
Acting Special Trustee for American Indians.

[FR Doc. E9-17461 Filed 7-22-09; 8:45 am]

BILLING CODE 4310-2W-P